SMALL BUSINESS ADMINISTRATION

[Disaster Declaration #14911 and #14912]

North Carolina Disaster Number NC-00081

AGENCY: U.S. Small Business Administration.

ACTION: Amendment 15.

SUMMARY: This is an amendment of the Presidential declaration of a major disaster for the State of North Carolina (FEMA-4285-DR), dated 10/10/2016.

Incident: Hurricane Matthew.

Incident Period: 10/04/2016 through 10/24/2016.

Effective Date: 01/09/2017.

Physical Loan Application Deadline Date: 01/23/2017.

EIDL Loan Application Deadline Date: 07/10/2017.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for the State of NORTH CAROLINA, dated 10/10/2016 is hereby amended to extend the deadline for filing applications for physical damages as a result of this disaster to 01/23/2017.

All other information in the original declaration remains unchanged.

(Catalog of Federal Domestic Assistance Number 59008)

Cynthia G. Pitts,
Acting Associate Administrator, for Disaster Assistance.

[FR Doc. 2017-01584 Filed 1-24-17; 8:45 am]

BILLING CODE 8025-01-P